DEPARTMENT OF ENERGY

Federal Energy Regulatory Commission

[Docket No. AD11-2-000]

Transmission Vegetation Management Practices; Supplemental Notice of Technical Conference

October 21, 2010.

On October 5, 2010 the Federal Energy Regulatory Commission announced that a Technical Conference on Transmission Vegetation Management Practices would be held on Tuesday, October 26, from 1 p.m. to 5 p.m. This staff-led conference will be held in the Commission Meeting Room at the Federal Energy Regulatory Commission, 888 First Street, NE., Washington, DC 20426. The conference will be open for the public to attend and advance registration is not required. Members of the Commission may attend the conference.

Attached is an agenda for this meeting. The conference will be Webcast. Anyone with Internet access who desires to listen to this event can do so by navigating to http://www.ferc.gov's Calendar of Events and locating this event in the Calendar. The event will contain a link to the webcast. The Capitol Connection provides technical support for webcasts and offers the option of listening to the meeting via phone-bridge for a fee. If you have any questions, visit http://www.CapitolConnection.org or call 703-993-3100.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact: Sarah McKinley, Office of External Affairs, Federal Energy Regulatory Commission, 888 First Street, NE., Washington, DC 20426, (202) 502-8368, sarah.mckinley@ferc.gov.

Kimberly D. Bose,
Secretary.

Technical Conference on Transmission Vegetation Management Practices

Docket No. AD11-2-000

October 26, 2010

Agenda

1 p.m. Welcome and Opening Remarks

The purpose of the conference is to discuss current vegetation management programs and practices as required under the Commission-approved Reliability Standard FAC-003-1—Transmission Vegetation Management Program (TVMP).¹ Reliability Standard FAC-003-1 applies to all transmission lines operated at 200 kV and above, and to lower voltage lines designated as “critical to the reliability of the electric system in the region.” ²

¹ See Mandatory Reliability Standards for the Bulk-Power System, Order No. 693, FERC Stats. & Regs. ¶ 31,242, at P 695-735; Order on reh'g, Order No. 693-A, 120 FERC ¶ 61,053 at P 95-99 (2007).

² Reliability Standard FAC-003-1, section A.4.3.

Certain landowners and other affected parties have raised concerns about changes in vegetation management practices that utilities implemented following adoption of FAC-003-1. Because reliability of the Bulk-Power System is critical, the Commission is interested in obtaining a better understanding of the scope of any changes in vegetation management practices since FAC-003-1 was approved as mandatory and enforceable, and the extent to which such changes resulted from the requirements imposed under FAC-003-1. The Commission is also interested in obtaining a better understanding of the range of vegetation management practices used by transmission owners, and the reasons for selecting a given practice over alternatives.

Panelists (for Both Panels)

David Morrell—Utility Environmental Analyst, New York Public Service Commission.

Robert Novembri—Senior Event Investigator, North American Electric Reliability Corporation.

Randall H. Miller—Director, Vegetation Management, PacifiCorp.

David E. Schleicher, PE—Vice President—Transmission, PPL Electric Utilities.

Derek Vannice—Executive Director, Utility Arborist Association, International Society of Arboriculture.

Charles Goodman—Co-Founder, Indiana Tree Alliance.

Mark Gilliland—Chairperson, LORAX Working Group, Greenburgh Environmental Forum.

Representative from another State public service commission (invited).

1:10 p.m. Session 1—This session will explore the requirements and impact of mandatory Reliability Standard FAC-003-1.

• What is required by Reliability Standard FAC-003-1? What is its purpose? Who must comply and what facilities are subject to it?

• Are there corresponding or conflicting vegetation management requirements at the State level? How are such requirements developed and to what facilities do they apply?

• What are common methods used for vegetation management, and what are the benefits of each method?

• Why do utilities choose one method over another? Cost, benefit of one method over another, or for other reasons?

• What's contained in a typical TMVP? Are there different types of TVMPs so that a utility might have one for FAC-003-1 compliance and another for compliance with State/local vegetation management requirements? How is a TVMP created, implemented, and approved?

• What effect did mandatory Reliability Standard FAC-003-1 have on vegetation management practices? Was there a change in vegetation management practices post-June 18, 2007?

• Questions from Staff.

3 p.m. Break

3:15 p.m. Session 2—This session will focus on Right of Way (ROW) agreements and landowner concerns and possible solutions.

• What provisions are typically contained in a electric transmission line ROW agreement (e.g., common provisions, rights and obligations of the utility and landowner)? How are these agreements developed/negotiated? Who has jurisdiction over them? Who is the arbiter of any disputes?

• Concerns raised by landowners regarding ROW maintenance, causes of disputes that say the utility blamed FERC for having to clear cut the right of way and remove trees that had long been in place.

• Landowner avenues for relief; can a landowner prevent ROW maintenance?

• Costs for vegetation management and who bears them? Are any such costs recovered in transmission tariffs subject to the Commission's jurisdiction? How are they reviewed by State PSC/PUCs?

• What is the impact, if any, of vegetation management practices on the siting of new (or upgraded) transmission lines? How can this impact be mitigated?

• Questions from Staff.

• Questions from the public.

4:45 Concluding Remarks

[FR Doc. 2010-27397 Filed 10-28-10; 8:45 am]

BILLING CODE 6717-01-P